ENVIRONMENTAL PROTECTION AGENCY

[EPA-HQ-OW-2003-0026; FRL 9940-33-OEI]

Information Collection Request Submitted to OMB for Review and Approval; Comment Request; National Water Quality Inventory Reports (Reinstatement)

AGENCY: Environmental Protection Agency (EPA).

ACTION: Notice.

SUMMARY: The Environmental Protection Agency has submitted an information collection request (ICR), “National Water Quality Inventory Reports (Renewal)” (EPA ICR No. 1560.11, OMB Control No. 2040-0071) to the Office of Management and Budget (OMB) for review and approval in accordance with the Paperwork Reduction Act (44 U.S.C. 3501 et seq.). This is a request for reinstatement of a previously discontinued collection. Public comments were previously requested via the Federal Register (80 FR 38684) on July 7, 2015 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before January 29, 2016.

ADDRESSES: Submit your comments, referencing Docket ID Number EPA-HQ-OW-2003-0026, to (1) EPA online using www.regulations.gov or by mail to: EPA Docket Center, Environmental Protection Agency, Mail Code 28221T, 1200 Pennsylvania Ave. NW., Washington, DC 20460, and (2) OMB via email oira_submission@omb.eop.gov. Address comments to OMB Desk Officer for EPA.

The EPA's policy is that all comments received will be included in the public docket without change including any personal information provided, unless the comment includes profanity, threats, information claimed to be Confidential Business Information (CBI) or other information whose disclosure is restricted by statute.

FOR FURTHER INFORMATION CONTACT: Charles Kovatch, Assessment and Watershed Protection Division, Office of Water, Mail Code: 4503T, Environmental Protection Agency, 1200 Pennsylvania Ave. NW., Washington, DC 20460; telephone number: 202-566-0399; email address: Kovatch.charles@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: The Clean Water Act Section 305(b) reports contain information on the water quality standards attainment status of assessed waters, and, when waters are impaired, the pollutants and potential sources affecting water quality. This information helps track State progress in addressing water pollution. Section 303(d) of the Clean Water Act requires States to identify and rank waters that cannot meet water quality standards (WQS) following the implementation of technology-based controls. Under Section 303(d), States are also required to establish total maximum daily loads (TMDLs) for listed waters not meeting standards as a result of pollutant discharges. In developing the Section 303(d) lists, States are required to consider various sources of water quality related data and information, including the Section 305(b) State water quality reports. Section 106(e) requires that states annually update monitoring data and use it in their Section 305(b) report. Section 314(a) requires states to report on the condition of their publicly-owned lakes within the Section 305(b) report.

EPA's Assessment and Watershed Protection Division (AWPD) works with its Regional counterparts to review and approve or disapprove State Section 303(d) lists and TMDLs from 56 respondents (the 50 States, the District of Columbia, and the five Territories). Section 303(d) specifically requires States to develop lists and TMDLs “from time to time,” and EPA to review and approve or disapprove the lists and the TMDLs. EPA also collects State 305(b) reports from 59 respondents (the 50 States, the District of Columbia, five Territories, and 3 River Basin Commissions).

During the period covered by this ICR renewal, respondents will: Complete their 2016 Section 305(b) reports and 2016 Section 303(d) lists; complete their 2018 Section 305(b) reports and 2018 Section 303(d) lists; transmit annual electronic updates of ambient monitoring data via the Water Quality Exchange; and continue to develop TMDLs according to their established schedules. EPA will prepare biennial updates on assessed and impaired waters for Congress and the public for the 2016 reporting cycle and for the 2018 cycle, and EPA will review 303(d) list and TMDL submissions from respondents.

Form Numbers: None.

Respondents/affected entities: States and Territories.

Respondent's obligation to respond: Mandatory (Clean Water Act Sections 305(b), 303(d), 314(a), and 106(e)).

Estimated number of respondents: 59 (total).

Frequency of response: Biennial.

Total estimated burden: 3,740,017 (per year) hours. Burden is defined at 5 CFR 1320.03(b).

Total estimated cost: $203,340,984 (per year), includes $0 annualized capital or operation & maintenance costs.

Changes in the Estimates: There is no change of hours in the total estimated respondent burden compared with the ICR previously approved by OMB. The EPA is currently designing the Water Quality Framework, which is a new way of integrating the EPA's data and information systems to more effectively support reporting and tracking water quality protection and restoration actions. The Framework will streamline water quality assessment and reporting by reducing transactions associated with paper copy reviews and increasing electronic data exchange. The Framework composts with the EPA'sE-Enterprise Initiative, which seeks to assess and reformulate the EPA's business process to reduce burden through the improved use of technology. The EPA expects that the Framework will reduce reporting burden for integrated water quality inventory reports and will revise this ICR before the new information system is implemented for the 2018 reporting cycle.

Courtney Kerwin,
Acting Director, Collection Strategies Division.

[FR Doc. 2015-32860 Filed 12-29-15; 8:45 am]

BILLING CODE 6560-50-P